DEPARTMENT OF ENERGY

Federal Energy Regulatory Commission

[Docket Nos. PH06-14-000, et al.]

Alpena Power Resources, Ltd., et al.; Electric Rate and Corporate Filings

March 9, 2006.

The following filings have been made with the Commission. The filings are listed in ascending order within each docket classification.

1. Alpena Power Resources, Ltd., Fletcher Investment, LLC

[Docket No. PH06-14-000]

Take notice that on March 6, 2006, Alpena Power Resources, Ltd. And Fletcher Investment, LLC filed a Petition for Waiver of the Requirements of The Public Utility Holding Company Act of 2005, pursuant to 18 CFR 366.4 of the Commission's regulations on the basis that it is confined substantially to a single state.

Comment Date: 5 p.m. Eastern Time on March 27, 2006.

2. Alaska Energy and Resources Company

[Docket No. PH06-15-000]

Take notice that on March 6, 2006, Alaska Energy and Resources Company filed a Petition for Waiver of the Requirements of The Public Utility Holding Company Act of 2005, pursuant to 18 CFR 366.4(c)(1) of the Commission's regulations on the basis that it is a single state holding company.

Comment Date: 5 p.m. Eastern Time on March 27, 2006.

3. National Grid Holdings One plc, and its Affiliated Holding Company Subsidiaries

[Docket No. PH06-16-000]

Take notice that on March 3, 2006, National Grid Holdings One plc (NGH One) and its affiliated direct and indirect holding company subsidiaries filed a Petition for Exemption of the Requirements of The Public Utility Holding Company Act of 2005, pursuant to 18 CFR 366.3(a) and 366.4(b)(1) of the Commission's regulations.

Comment Date: 5 p.m. Eastern Time on March 24, 2006.

4. RGC Resources, Inc.

[Docket No. PH06-18-000]

Take notice that on March 6, 2006, RGC Resources, Inc. filed a Petition for Waiver of the Requirements of The Public Utility Holding Company Act of 2005, pursuant to 18 CFR 366.3(c) and 366.4(c)(1) of the Commission's regulations on the basis that all of its public utility operations occur in the state of Virginia.

Comment Date: 5 p.m. Eastern Time on March 27, 2006.

5. Deutsch Bank AG, London Branch, DB Energy Trading, LLC

[Docket No. PH06-19-000]

Take notice that on March 3, 2006, National Deutsche Bank AG, London Branch and Deutsche Bank Energy Trading, LLC filed a Petition for Exemption of the Requirements of The Public Utility Holding Company Act of 2005, pursuant to 18 CFR 366.3(a) and 366.3(b) of the Commission's regulations.

Comment Date: 5 p.m. Eastern Time on March 24, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3873 Filed 3-16-06; 8:45 am]

BILLING CODE 6717-01-P